DEPARTMENT OF LABOR

Employment and Training Administration

[TA-W-58,867]

Hayes Lemmerz International; Huntington, IN; Certification Regarding Eligibility To Apply for Worker Adjustment Assistance and Alternative Trade Adjustment Assistance

In accordance with section 223 of the Trade Act of 1974 (19 U.S.C. 2273), as amended, the Department of Labor herein presents the results of its investigation regarding certification of eligibility to apply for worker adjustment assistance.

In order to make an affirmative determination and issue a certification of eligibility to apply for Trade Adjustment Assistance, the group eligibility requirements in either paragraph (a)(2)(A) or (a)(2)(B) of section 222 of the Trade Act must be met. It is determined in this case that the requirements of (a)(2)(A) of section 222 have been met.

The investigation was initiated on February 21, 2006 in response to a petition filed by a company official on behalf of workers of Hayes Lemmerz International, Huntington, Indiana. The workers produce cast aluminum wheels for the automotive industry.

The investigation revealed that employment, sales, and production at the subject firm declined from 2004 through 2005.

The United States Department of Labor surveyed the subject firm's major declining customer(s) regarding purchases of cast aluminum wheels in 2004 and 2005. The survey revealed that customer(s) increased import purchases while reducing purchases from the subject firm.

In accordance with section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of section 246 of the Trade Act must be met. The Department has determined in this case that the requirements of Section 246 have been met.

A significant number of workers at the firm are age 50 or over and possess skills that are not easily transferable. Competitive conditions within the industry are adverse.

Conclusion

After careful review of the facts obtained in the investigation, I determine that increased imports of cast aluminum wheels, like or directly competitive with those produced by Hayes Lemmerz International, Huntington, Indiana, contributed importantly to the total or partial separation of workers and to the decline in sales or production at that firm or subdivision. In accordance with the provisions of the Act, I make the following certification:

“All workers of Hayes Lemmerz International, Huntington, Indiana, who became totally or partially separated from employment on or after February 17, 2005, through two years from the date of certification are eligible to apply for adjustment assistance under Section 223 of the Trade Act of 1974, and are also eligible to apply for alternative trade adjustment assistance under Section 246 of the Trade Act of 1974.”

Signed in Washington, DC, this 16th day of March 2006.
Linda G. Poole,
Certifying Officer, Division of Trade Adjustment Assistance.

[FR Doc. E6-6407 Filed 4-27-06; 8:45 am]

BILLING CODE 4510-30-P